DEPARTMENT OF HEALTH AND HUMAN SERVICES

Centers for Disease Control and Prevention

Advisory Committee on Breast Cancer in Young Women (ACBCYW); Meeting

AGENCY: Centers for Disease Control and Prevention (CDC), Department of Health and Human Services (HHS).

ACTION: Notice of meeting.

SUMMARY: In accordance with the Federal Advisory Committee Act, the CDC announces the following meeting for the Advisory Committee on Breast Cancer in Young Women (ACBCYW). This meeting is open to the public, limited only by room space, and audio web conference lines (80 audio and web conference lines available). The public is also welcome to listen to the meeting by accessing the call-in number, 1-800-857-4868, passcode, 1218986 (80 lines are available). The web conference access is https://adobeconnect.cdc.gov/radjn2o1shbb/.

Online Registration Required: All ACBCYW Meeting participants must register for the meeting online at least 7 business days in advance at https://www.cdc.gov/cancer/breast/what_cdc_is_doing/conference.htm. Please complete all the required fields before submitting your registration and submit no later than August 9, 2019. All visitors are required to present a valid form of picture identification issued by a state, federal or international government. As required by the Federal Property Management Regulations, all persons entering in or on Federal controlled property and their packages, briefcases, and other containers in their immediate possession are subject to being x-rayed and inspected. Federal law prohibits the knowing possession or the causing to be present of firearms, explosives and other dangerous weapons and illegal substances.

DATES: The meeting will be held on August 19, 2019, 8:30 a.m. to 5:00 p.m., EDT and August 20, 2019, 8:30 a.m. to 12:00 Noon, EDT.

ADDRESSES: 4770 Buford Highway, Atlanta, Georgia 30341.

The teleconference access is 1-800-857-4868; passcode, 1218986. The web conference access is https://adobeconnect.cdc.gov/radjn2o1shbb/.

FOR FURTHER INFORMATION CONTACT: Temeika L. Fairley, Ph.D., Designated Federal Officer, National Center for Chronic Disease Prevention and Health Promotion, CDC, 5770 Buford Hwy. NE, Mailstop K52, Atlanta, Georgia, 30341, Telephone (770) 488-4518, Fax (770) 488-4760. Email: acbcyw@cdc.gov.

SUPPLEMENTARY INFORMATION:

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters To Be Considered: The agenda will include discussions on current and emerging topics related to breast cancer in young women. These will include public health communication, breast cancer in young women digital and social media campaign, CDC updates, and updates from the field. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-15593 Filed 7-22-19; 8:45 am]

BILLING CODE 4163-18-P